DEPARTMENT OF HEALTH AND HUMAN SERVICES

Centers for Disease Control and Prevention

[Docket No. CDC-2020-0001; NIOSH-333]

Developing a Workplace Supported Recovery Program: A Strategy for Assisting Workers and Employers With the Nation's Opioid and Substance Use Disorder Epidemics; Request for Information; Extension of Comment Period

AGENCY: Centers for Disease Control and Prevention, HHS.

ACTION: Extension of comment period.

SUMMARY: On February 26, 2020, the National Institute for Occupational Safety and Health (NIOSH), within the Center for Disease Control and Prevention (CDC), opened a docket to obtain public input on a NIOSH plan to develop resources and conduct research on the topic of workplace supported recovery. Workplace supported recovery programs (WSRPs) assist workers and employers facing the nation's crisis related to the misuse of opioids and other drugs, and related substance disorders. Comments were to be received by April 27, 2020. NIOSH is extending the comment period to close on July 27, 2020, to allow stakeholders and other interested parties sufficient time to respond.

DATES: The comment period for the document published on February 26, 2020 (85 FR 11085), is extended. Comments must be received by July 27, 2020.

ADDRESSES: You may submit written comments, identified by docket numbers CDC-2020-0001 and NIOSH-333, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2020-0001; NIOSH-333]. All relevant comments received will be posted without change to http://www.regulations.gov, including any personal information provided.

FOR FURTHER INFORMATION CONTACT: L. Casey Chosewood, NIOSH, 1600 Clifton Road NE; Mailstop V24-4, Atlanta, GA 30329; phone: 404-498-2483 (not a toll-free number); email: twh@cdc.gov.

SUPPLEMENTARY INFORMATION: NIOSH published a request for information in the Federal Register on February 26, 2020 (85 FR 11085) regarding the planned development of resources and conduct of research on the topic of workplace supported recovery programs (WSRPs). This notice announces the extension of the comment period until July 27, 2020.

John J. Howard,
Director, National Institute for Occupational Safety and Health, Centers for Disease Control and Prevention.

[FR Doc. 2020-07683 Filed 4-10-20; 8:45 am]

BILLING CODE 4163-18-P